CONSUMER PRODUCT SAFETY COMMISSION

[Docket No. CPSC-2012-0057]

Agency Information Collection Activities; Submission for OMB Review; Comment Request—Requirements for Electrically Operated Toys and Children's Articles

AGENCY: Consumer Product Safety Commission.

ACTION: Notice.

SUMMARY: In accordance with the requirements of the Paperwork Reduction Act (“PRA”) of 1995 (44 U.S.C. chapter 35), the Consumer Product Safety Commission (“Commission” or “CPSC”) announces that the Commission has submitted to the Office of Management and Budget (“OMB”) a request for extension of approval of a collection of information for Electrically Operated Toys or Other Electrically Operated Articles Intended for Use by Children (16 CFR part 1505), approved previously under OMB Control No. 3041-0035. In the Federal Register of November 25, 2015 (80 FR 73738), the CPSC published a notice to announce the agency's intention to seek extension of approval of the collection of information. The Commission received no comments. Therefore, by publication of this notice, the Commission announces that CPSC has submitted to the OMB a request for extension of approval of that collection of information, without change.

DATES: Written comments on this request for extension of approval of information collection requirements should be submitted by March 24, 2016.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW., Washington, DC 20503. In addition, written comments that are sent to OMB also should be submitted electronically at http://www.regulations.gov, under Docket No. CPSC-2012-0057.

FOR FURTHER INFORMATION CONTACT: For further information contact: Robert H. Squibb, Consumer Product Safety Commission, 4330 East-West Highway, Bethesda, MD 20814; (301) 504-7815, or by email to: rsquibb@cpsc.gov.

SUPPLEMENTARY INFORMATION: CPSC has submitted the following currently approved collection of information to OMB for extension:

Title: Requirements for Electrically Operated Toys.

OMB Number: 3041-0035.

Type of Review: Renewal of collection.

Frequency of Response: On occasion.

Affected Public: Manufacturers and importers of electrically operated toys and other electrically operated articles.

Estimated Number of Respondents: 40 firms that manufacture or import electrically operated toys and other electrically operated articles have been identified; based on manufacturer and importer records for sales and distribution of inventory, there are approximately 10 models each year per firm for which testing and recordkeeping is required resulting in 400 records (40 firms × 10 models) per year.

Estimated Time per Response: Based on discussion with a trade association for the toy industry, we estimate that the tests required by the regulations can be performed on one model in 16 hours and that four hours of recordkeeping is required per model. In addition, each firm may spend 30 minutes or less per model on labeling requirements.

Total Estimated Annual Burden: 6,400 hours for testing burden (16 hours × 400 records); 1,600 hours for recordkeeping (4 hours × 400 records); 200 hours for labeling (40 firms × ½ hour × 10 models) for a total annual burden of 8,200 hours per year.

General Description of Collection: The regulations in 16 CFR part 1505 establish performance and labeling requirements for electrically operated toys and children's articles to reduce unreasonable risks of injury to children from electric shock, electrical burns, and thermal burns associated with those products. Manufacturers and importers of electrically operated toys and children's articles are required to maintain records for three years on: (1) Material and production specifications; (2) the quality assurance program used; (3) results of all tests and inspections conducted; and (4) sales and distribution of electrically operated toys and children's articles.

Dated: February 18, 2016.
Todd A. Stevenson,
Secretary, Consumer Product Safety Commission.

[FR Doc. 2016-03701 Filed 2-22-16; 8:45 am]

BILLING CODE 6355-01-P